NATIONAL AERONAUTICS AND SPACE ADMINISTRATION

[Notice (08-091)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: November 12, 2008.

FOR FURTHER INFORMATION CONTACT: Linda B. Blackburn, Patent Counsel, Langley Research Center, Mail Code 141, Hampton, VA 23681-2199; telephone (757) 864-3221; fax (757) 864-9190.

NASA Case No. LAR-17548-1: Combination Structural Support and Thermal Protection System;

NASA Case No. LAR-17427-1: Tailorable Dielectric Material with Complex Permitivity Characteristics;

NASA Case No. LAR-17573-1: Air-Coupled Acoustic Thermography for In-Situ Evaluation;

NASA Case No. LAR-17391-1: Byzantine-Fault Tolerant Self-Stabilizing Protocol for Distributed Clock Synchronization Systems.

Dated: November 4, 2008.
Michael C. Wholley,
General Counsel.

[FR Doc. E8-26821 Filed 11-10-08; 8:45 am]

BILLING CODE 7510-13-P